DEPARTMENT OF AGRICULTURE

Forest Service

Hoosier National Forest, Indiana, German Ridge Restoration Project

AGENCY: Forest Service, USDA.

ACTION: Revised notice of intent to prepare an environmental impact statement.

SUMMARY: The USDA Forest Service, Hoosier National Forest is revising the expected date for a draft environmental impact statement. The prior notice concerning this project appeared in the Federal Register on August 30, 2002 (Volume 67, Number 169, pages 55773-55775). The Hoosier National Forest is preparing an environmental impact statement (EIS) to disclose the environmental consequences of a vegetation restoration project. The EIS will address the potential environmental impacts of replacing pine plantations in the German Ridge area of Perry County, Indiana with native hardwood communities.

DATES: The draft environmental impact statement is expected February 2004, and the final environmental impact statement is expected July 2004.

FOR FURTHER INFORMATION CONTACT: Ron Ellis, NEPA coordinator, Hoosier National Forest, USDA Forest Service; telephone; (812) 275-5987. Address: 811 Constitution Avenue; Bedford IN 47421. The original scoping document can also be viewed at the Hoosier National Forest Web page at http://www.fs.fed.us/r9/hoosier/project_docs/scoping/german_ridge restoration.htm.

Responsible Official

Kenneth G. Day, Forest Supervisor; Hoosier National Forest; 811 Constitution Avenue; Bedford, Indiana 47421.

(Authority: 40 CFR 1501.7 and 1508.22; Forest Service Handbook 1909.15, Section 21)

Dated: November 4, 2003.
Kenneth G. Day,
Forest Supervisor.

[FR Doc. 03-28782 Filed 11-17-03; 8:45 am]

BILLING CODE 3410-11-M